Proclamation 10261 of September 17, 2021

National Farm Safety and Health Week, 2021

By the President of the United States of America

A Proclamation

In every generation, America's farmers, ranchers, and farmworkers have fed and fueled our Nation, nurturing the strength and health of our people, our communities, and our economy. Since 1944, we have celebrated these critical workers during National Farm Safety and Health Week—a time for all of us to recommit ourselves to advancing the safety and well-being of all hardworking farm and ranch workers.

The contributions of farmers, ranchers, and farmworkers have always been essential, but they have perhaps never been more evident than during the COVID-19 pandemic. The pandemic has taken an incalculable toll on our Nation's farms and farming communities, with high rates of infections and illnesses affecting nearly every facet of our agricultural system. Beyond the unique challenges posed by the pandemic, the agriculture sector has always been both physically and mentally demanding, and it remains one of the most dangerous industries in America.

Despite these challenges, our dedicated farmers, ranchers, and farmworkers have continued to work around the clock, putting their lives and the lives of their loved ones on the line to ensure that families across the country have food on the table. Their sacrifices are commendable, but they should not have to risk injury, illness, or death to do their jobs. Our Nation has a duty to protect agricultural workers and promote safety education for farmers and farm families. We must continue to reduce the risks of accidents, injuries, and fatalities—including those on rural roadways involving tractors and other machinery—as well as the health risks associated with prolonged exposure to fertilizers and chemical agents. We must continue to get Americans vaccinated, so that our brave farmers, ranchers, and farmworkers can go to work free from the deadly threat of COVID-19.

American farmworkers are the best in the world, and they have always faced the challenges of the job head-on. Their success is our Nation's success, and we must support them and their well-being as they feed the world, lift up their local communities, and contribute to the prosperity and possibilities of rural America and beyond. My Administration is committed to ensuring that every farmer, rancher, and farmworker can work in a safe and healthy environment. By having their backs, our Nation will continue to lead the world in agricultural production and innovation and ensure that our food supply is secure and our economy is strong.

NOW, THEREFORE, I, JOSEPH R. BIDEN JR., President of the United States of America, by virtue of the authority vested in me by the Constitution and the laws of the United States, do hereby proclaim September 19 through September 25, 2021, as National Farm Safety and Health Week. I call upon the people of the United States, including America's farmers and ranchers and agriculture-related institutions, organizations, and businesses to reaffirm a dedication to farm safety and health. I also urge all Americans to honor the historic and ongoing contributions of our agricultural sector and express appreciation and gratitude to our farmers and ranchers for their vital contributions and tireless service to our Nation.

IN WITNESS WHEREOF, I have hereunto set my hand this seventeenth day of September, in the year of our Lord two thousand twenty-one, and of the Independence of the United States of America the two hundred and forty-sixth.

[FR Doc. 2021-20627

Filed 9-21-21; 8:45 am]

Billing code 3295-F1-P